Title 3—

The President

Proclamation 8202 of November 8, 2007

World Freedom Day, 2007

By the President of the United States of America

A Proclamation

On World Freedom Day, we commemorate the fall of the Berlin Wall and reaffirm our conviction that freedom is the inalienable right of every man, woman, and child.

On November 9, 1989, the Berlin Wall fell—a triumph of freedom over those who denied hope and opportunity to millions. The collapse of this barrier signaled the demise of the Soviet empire and ushered in a new era of liberty for much of Central and Eastern Europe. In the end, tyranny was overpowered by ordinary people who wanted to live their lives freely, worship God freely, and speak the truth to their children. With moral clarity and courage, brave individuals can change the course of history.

Our Nation remains committed to the advance of freedom and democracy as the great alternatives to repression and radicalism. America calls on every country that stifles dissent to end its repression, to trust its people, and to grant its citizens the liberty they deserve.

NOW, THEREFORE, I, GEORGE W. BUSH, President of the United States of America, by virtue of the authority vested in me by the Constitution and laws of the United States, do hereby proclaim November 9, 2007, as World Freedom Day. I call upon the people of the United States to observe this day with appropriate ceremonies and activities, reaffirming our dedication to freedom and democracy.

IN WITNESS WHEREOF, I have hereunto set my hand this eighth day of November, in the year of our Lord two thousand seven, and of the Independence of the United States of America the two hundred and thirty-second.

[FR Doc. 07-5701

Filed 11-13-07; 9:52 am]

Billing code 3195-01-P